DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of non-domestic iron and steel products in (1) Auxiliary two speed motor, (2) Auxiliary back up drive clutch, (3) Main span and backup span motor, and (4) Brakes for the Memorial Bridge project in the State of New Hampshire.

DATES: The effective date of the waiver is February 26, 2013.

FOR FURTHER INFORMATION CONTACT: For questions about this notice, please contact Mr. Gerald Yakowenko, FHWA Office of Program Administration, (202) 366-1562, or via email at gerald.yakowenko@dot.gov. For legal questions, please contact Mr. Michael Harkins, FHWA Office of the Chief Counsel, (202) 366-4928, or via email at michael.harkins@dot.gov. Office hours for the FHWA are from 8:00 a.m. to 4:30 p.m., e.t., Monday through Friday, except Federal holidays.

SUPPLEMENTARY INFORMATION:

Electronic Access

An electronic copy of this document may be downloaded from the

Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use some non-domestic iron and steel products in (1) Auxiliary two speed motor, (2) Auxiliary back up drive clutch, (3) Main span and backup span motor, and (4) Brakes for a the Memorial Bridge project in the State of New Hampshire. The Memorial Bridge project will build a new crossing to replace the existing structurally deficient bridge carrying US-1 over the Piscataqua River between Portsmouth, NH, and Kittery, ME. The project is scheduled to reopen to traffic on July 6, 2013.

In accordance with Division A, section 122 of the “Consolidated and Further Continuing Appropriations Act, 2012” (Pub. L. 112-284), the FHWA published a notice of intent to issue a waiver on its Web site for iron and steel products in (1) Auxiliary two speed motor, (2) Auxiliary back up drive clutch, (3) Main span and backup span motor, and (4) Brakes in the State of New Hampshire (http://www.fhwa.dot.gov/construction/contracts/waivers.cfm?id=81) on October 4th. The FHWA received no comment in response to the publication. During the 15-day comment period, the FHWA conducted additional nationwide review to locate potential domestic manufacturers of the iron and steel products in (1) Auxiliary two speed motor, (2) Auxiliary back up drive clutch, (3) Main span and backup span motor, and (4) Brakes. Based on all the information available to the agency, the FHWA concludes that there are no manufacturers of the iron and steel products in (1) Auxiliary two speed motor, (2) Auxiliary back up drive clutch, (3) Main span and backup span motor, and (4) Brakes that produce the products in compliance with the FHWA's Buy America requirements.

Therefore, in accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the New Hampshire waiver page noted above.

Authority: 23 U.S.C. 313; Pub. L. 110-161, 23 CFR 635.410.

Issued on: February 13, 2013.
Victor M. Mendez,
Federal Highway Administrator.

[FR Doc. 2013-04244 Filed 2-22-13; 8:45 am]

BILLING CODE 4910-22-P